INTERNATIONAL TRADE COMMISSION

[USITC SE-01-034]

Sunshine Act Meeting

Agency Holding the Meeting: United States International Trade Commission.

Time and Date: October 18, 2001 at 2:00 p.m.

Place: Room 101, 500 E Street SW., Washington, DC 20436, Telephone: (202) 205-2000.

Status: Open to the public.

Matters to be Considered:

1. Agenda for future meeting: none

2. Minutes.

3. Ratification List.

4. Inv. No. 731-TA-739 (Review) (Clad Steel Plate from Japan)—briefing and vote. (The Commission is currently scheduled to transmit its determination and Commissioners' opinions to the Secretary of Commerce on October 29, 2001.)

5. Outstanding action jackets: None.

In accordance with Commission policy, subject matter listed above, not disposed of at the scheduled meeting, may be carried over to the agenda of the following meeting.

By order of the Commission:
Issued: October 11, 2001.
Donna R. Koehnke,
Secretary.

[FR Doc. 01-26116 Filed 10-12-01; 12:46 am]

BILLING CODE 7020-02-P